DEPARTMENT OF THE TREASURY

Bureau of Alcohol, Tobacco and Firearms

Alcohol and Tobacco Tax and Trade Bureau

27 CFR Parts 46, 47, 55, 178, and 179

[T.D. ATF—487]

RIN: 1512-AD06

DEPARTMENT OF JUSTICE

Bureau of Alcohol, Tobacco, Firearms, and Explosives

27 CFR Parts 447, 478, 479, 555, and 646

[OLC No. 01-03]

Reorganization of Title 27, Code of Federal Regulations

AGENCIES: Department of the Treasury; Department of Justice.

ACTION: Final rule.

SUMMARY: The Homeland Security Act of 2002 divides the Bureau of Alcohol, Tobacco and Firearms, Department of the Treasury, into two separate agencies, the Bureau of Alcohol, Tobacco, Firearms, and Explosives (ATF) in the Department of Justice, and the Alcohol and Tobacco Tax and Trade Bureau (TTB) in the Department of the Treasury. These changes require reorganization of title 27 of the Code of Federal Regulations. This final rule renames chapter I, establishes a new chapter II in 27 CFR, and removes certain regulations from chapter I and recodifies them in the new chapter II.

DATES: This rule is effective on January 24, 2003.

FOR FURTHER INFORMATION CONTACT: Lisa M. Gesser, Regulations Division, Alcohol and Tobacco Tax and Trade Bureau, 650 Massachusetts Avenue NW., Washington, DC 20226; 202-927-9347.

SUPPLEMENTARY INFORMATION:

Background

On November 25, 2002, the President signed into law the Homeland Security Act of 2002, Pub. L. No. 107-296, 116 Stat. 2135 (2002). Under title XI, subtitle B, section 1111 of the Act, the “authorities, functions, personnel, and assets” of the Bureau of Alcohol, Tobacco and Firearms, Department of the Treasury (the Bureau), are transferred to the Department of Justice, with the exception of certain enumerated authorities that are retained by the Department of the Treasury. The authorities retained by the Secretary of the Treasury include the administration and enforcement of chapters 51 and 52 of the Internal Revenue Code, sections 4181 and 4182 of the Internal Revenue Code, and title 27 of the United States Code.

Section 1111 of the Homeland Security Act further provides that the Bureau will retain its identity as a distinct entity within the Department of Justice known as the Bureau of Alcohol, Tobacco, Firearms, and Explosives (ATF). The functions retained by the Department of the Treasury are the responsibility of a new Alcohol and Tobacco Tax and Trade Bureau (TTB). The split of the Bureau's functions takes effect on January 24, 2003.

Reorganization of Title 27 CFR

Title 27, Code of Federal Regulations (27 CFR), currently contains one chapter titled “Chapter I—Bureau of Alcohol, Tobacco and Firearms, Department of the Treasury.” Since the Act divides the Bureau into two separate bureaus, this final rule reorganizes 27 CFR into two chapters, one for each new agency. The current chapter I will be retitled “Chapter I—Alcohol and Tobacco Tax and Trade Bureau, Department of the Treasury.” Chapter I will retain all current alcohol and tobacco regulations (except those relating to contraband cigarettes), as well as those related to the Federal firearms and ammunition excise tax. The newly established chapter II will be titled “Chapter II—Alcohol, Tobacco, Firearms, and Explosives, Department of Justice.” Chapter II will initially contain the four existing 27 CFR parts concerning firearms and explosives that are being moved from chapter I and recodified in the new chapter. Chapter II will also contain the existing regulations concerning contraband cigarettes.

This final rule does not make any changes to the current requirements of the regulations in 27 CFR. It merely divides the Bureau's current regulations between the new TTB and ATF. In the near future, TTB and the Department of Justice will individually make the necessary technical corrections to their regulations required by the division of the Bureau into the two new bureaus. This may include changes to agency names and addresses, agency acronyms, Web site addresses, delegation order numbers, position titles, and cross references within the regulations.

As noted, this final rule removes four existing parts and one existing subpart in 27 CFR concerning firearms, ammunition, explosives, and contraband cigarettes from chapter I and recodifies them in the new chapter II. These are:

• Part 46, Subpart F—Distribution of Cigarettes, which becomes part 646;

• Part 47, Importation of Arms, Ammunition and Implements of War, which becomes part 447;

• Part 55, Commerce in Explosives, which becomes part 555;

• Part 178, Commerce in Firearms and Ammunition, which becomes part 478; and

• Part 179, Machine Guns, Destructive Devices, and Certain Other Firearms, which becomes part 479.

The following are derivation tables for each of these recodified parts:

Derivation Table for Part 447
The requirements of section: | Are derived from section:
Subpart A
447.1 | 47.1
447.2 | 47.2
Subpart B
447.11 | 47.11
Subpart C
447.21 | 47.21
447.22 | 47.22
Subpart D
447.31 | 47.31
447.32 | 47.32
447.33 | 47.33
447.34 | 47.34
447.35 | 47.35
Subpart E
447.41 | 47.41
447.42 | 47.42
447.43 | 47.43
447.44 | 47.44
447.45 | 47.45
447.46 | 47.46
Subpart F
447.51 | 47.51
447.52 | 47.52
447.53 | 47.53
447.54 | 47.54
447.55 | 47.55
447.56 | 47.56
447.57 | 47.57
447.58 | 47.58
Subpart G
447.61 | 47.61
447.62 | 47.62
447.63 | 47.63

Derivation Table for Part 478
The requirements of section: | Are derived from section:
Subpart A
478.1 | 178.1
478.2 | 178.2
Subpart B
478.11 | 178.11
Subpart C
478.21 | 178.21
478.22 | 178.22
478.23 | 178.23
478.24 | 178.24
478.25 | 178.25
478.25a | 178.25a
478.26 | 178.26
478.27 | 178.27
478.28 | 178.28
478.29 | 178.29
478.29a | 178.29a
478.30 | 178.30
478.31 | 178.31
478.32 | 178.32
478.33 | 178.33
478.33a | 178.33a
478.34 | 178.34
478.35 | 178.35
478.36 | 178.36
478.37 | 178.37
478.38 | 178.38
478.39 | 178.39
478.39a | 178.39a
478.40 | 178.40
478.40a | 178.40a
Subpart D
478.41 | 178.41
478.42 | 178.42
478.43 | 178.43
478.44 | 178.44
478.45 | 178.45
478.46 | 178.46
478.47 | 178.47
478.48 | 178.48
478.49 | 178.49
478.50 | 178.50
478.51 | 178.51
478.52 | 178.52
478.53 | 178.53
478.54 | 178.54
478.55 | 178.55
478.56 | 178.56
478.57 | 178.57
478.58 | 178.58
478.59 | 178.59
478.60 | 178.60
Subpart E
478.71 | 178.71
478.72 | 178.72
478.73 | 178.73
478.74 | 178.74
478.75 | 178.75
478.76 | 178.76
478.77 | 178.77
178.78 | 178.78
Subpart F
478.91 | 178.91
478.92 | 178.92
478.93 | 178.93
478.94 | 178.94
478.95 | 178.95
478.96 | 178.96
478.97 | 178.97
478.98 | 178.98
478.99 | 178.99
478.100 | 178.100
478.101 | 178.101
478.102 | 178.102
478.103 | 178.103
Subpart G
478.111 | 178.111
478.112 | 178.112
478.113 | 178.113
478.113a | 178.113a
478.114 | 178.114
478.115 | 178.115
478.116 | 178.116
478.117 | 178.117
478.118 | 178.118
478.119 | 178.119
478.120 | 178.120
Subpart H
478.121 | 178.121
478.122 | 178.122
478.123 | 178.123
478.124 | 178.124
478.124a | 178.124a
478.125 | 178.125
478.125a | 178.125a
478.126 | 178.126
478.126a | 178.126a
478.127 | 178.127
478.128 | 178.128
478.129 | 178.129
478.131 | 178.131
478.132 | 178.132
478.133 | 178.133
478.134 | 178.134
Subpart I
478.141 | 178.141
478.142 | 178.142
478.143 | 178.143
478.144 | 178.144
478.145 | 178.145
478.146 | 178.146
478.147 | 178.147
478.148 | 178.148
478.149 | 178.149
478.150 | 178.150
478.151 | 178.151
478.152 | 178.152
478.153 | 178.153
Subpart J [Reserved]
Subpart K
478.171 | 178.171

Derivation Table for Part 479
The requirements of section: | Are derived from section:
Subpart A
479.1 | 179.1
Subpart B
479.11 | 179.11
Subpart C
479.21 | 179.21
479.22 | 179.22
479.23 | 179.23
479.24 | 179.24
479.25 | 179.25
479.26 | 179.26
Subpart D
479.31 | 179.31
479.32 | 179.32
479.32a | 179.32a
479.33 | 179.33
479.34 | 179.34
479.35 | 179.35
479.36 | 179.36
479.37 | 179.37
479.38 | 179.38
479.39 | 179.39
479.40 | 179.40
479.41 | 179.41
479.42 | 179.42
479.43 | 179.43
479.44 | 179.44
479.45 | 179.45
479.46 | 179.46
479.47 | 179.47
479.48 | 179.48
479.49 | 179.49
479.50 | 179.50
479.51 | 179.51
479.52 | 179.52
Subpart E
479.61 | 179.61
479.62 | 179.62
479.63 | 179.63
479.64 | 179.64
479.65 | 179.65
479.66 | 179.66
479.67 | 179.67
479.68 | 179.68
479.69 | 179.69
479.70 | 179.70
479.71 | 179.71
Subpart F
479.81 | 179.81
479.82 | 179.82
479.83 | 179.83
479.84 | 179.84
479.85 | 179.85
479.86 | 179.86
479.87 | 179.87
479.88 | 179.88
479.89 | 179.89
479.90 | 179.90
479.91 | 179.91
479.92 | 179.92
479.93 | 179.93
Subpart G
479.101 | 179.101
479.102 | 179.102
479.103 | 179.103
479.104 | 179.104
479.105 | 179.105
Subpart H
479.111 | 179.111
479.112 | 179.112
479.113 | 179.113
479.114 | 179.114
479.115 | 179.115
479.116 | 179.116
479.117 | 179.117
479.118 | 179.118
479.119 | 179.119
479.120 | 179.120
479.121 | 179.121
479.122 | 179.122
Subpart I
479.131 | 179.131
Subpart J
479.141 | 179.141
479.142 | 179.142
Subpart K
479.151 | 179.151
479.152 | 179.152
Subpart L
479.161 | 179.161
479.162 | 179.162
479.163 | 179.163
Subpart M
479.171 | 179.171
479.172 | 179.172
Subpart N
479.181 | 179.181
479.182 | 179.182
Subpart O
479.191 | 179.191
479.192 | 179.192
479.193 | 179.193

Derivation Table for Part 555
The requirements of section: | Are derived from section:
Subpart A
555.1 | 55.1
555.2 | 55.2
Subpart B
555.11 | 55.11
Subpart C
555.21 | 55.21
555.22 | 55.22
555.23 | 55.23
555.24 | 55.24
555.25 | 55.25
555.26 | 55.26
555.27 | 55.27
555.28 | 55.28
555.29 | 55.29
555.30 | 55.30
555.31 | 55.31
555.32 | 55.32
Subpart D
555.41 | 55.41
555.42 | 55.42
555.43 | 55.43
555.44 | 55.44
555.45 | 55.45
555.46 | 55.46
555.47 | 55.47
555.48 | 55.48
555.49 | 55.49
555.50 | 55.50
555.51 | 55.51
555.52 | 55.52
555.53 | 55.53
555.54 | 55.54
555.55 | 55.55
555.56 | 55.56
555.57 | 55.57
555.58 | 55.58
555.59 | 55.59
555.60 | 55.60
555.61 | 55.61
555.62 | 55.62
555.63 | 55.63
Subpart E
555.71 | 55.71
555.72 | 55.72
555.73 | 55.73
555.74 | 55.74
555.75 | 55.75
555.76 | 55.76
555.77 | 55.77
555.78 | 55.78
555.79 | 55.79
555.80 | 55.80
555.81 | 55.81
555.82 | 55.82
555.83 | 55.83
Subpart F
555.101 | 55.101
555.102 | 55.102
555.103 | 55.103
555.104 | 55.104
555.105 | 55.105
555.106 | 55.106
555.107 | 55.107
555.108 | 55.108
555.109 | 55.109
Subpart G
555.121 | 55.121
555.122 | 55.122
555.123 | 55.123
555.124 | 55.124
555.125 | 55.125
555.126 | 55.126
555.127 | 55.127
555.128 | 55.128
555.129 | 55.129
555.130 | 55.130
Subpart H
555.141 | 55.141
555.142 | 55.142
Subpart I
555.161 | 55.161
555.162 | 55.162
555.163 | 55.163
555.164 | 55.164
555.165 | 55.165
555.166 | 55.166
Subpart J
555.180 | 55.180
555.181 | 55.181
555.182 | 55.182
555.183 | 55.183
555.184 | 55.184
555.185 | 55.185
555.186 | 55.186
Subpart K
555.201 | 55.201
555.202 | 55.202
555.203 | 55.203
555.204 | 55.204
555.205 | 55.205
555.206 | 55.206
555.207 | 55.207
555.208 | 55.208
555.209 | 55.209
555.210 | 55.210
555.211 | 55.211
555.212 | 55.212
555.213 | 55.213
555.214 | 55.214
555.215 | 55.215
555.216 | 55.216
555.217 | 55.217
555.218 | 55.218
555.219 | 55.219
555.220 | 55.220
555.221 | 55.221
555.222 | 55.222
555.223 | 55.223
555.224 | 55.224

Derivation Table for Part 646
The requirements of section: | Are derived from section:
646.141 | 46.141
646.142 | 46.142
646.143 | 46.143
646.146 | 46.146
646.147 | 46.147
646.150 | 46.150
646.153 | 46.153
646.154 | 46.154
646.155 | 46.155

Paperwork Reduction Act

The provisions of the Paperwork Reduction Act of 1995, Public Law 104-13, 44 U.S.C. chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply.

Executive Order 12866

This final rule is not a significant regulatory action as defined in Executive Order 12866. Accordingly, this final rule is not subject to the analysis this Executive Order requires.

Administrative Procedure Act

Because this final rule merely makes technical amendments to improve the organization of the regulations, no notice of proposed rulemaking and public comment period is required under 5 U.S.C. 553(b)(B). Similarly, because this final rule makes no substantive changes and is merely a recodification of existing regulations, this final rule is not subject to the effective date limitation of 5 U.S.C. 553(d).

Drafting Information

The principal author of this document is Lisa M. Gesser, Regulations Division, Bureau of Alcohol, Tobacco and Firearms.

List of Subjects

27 CFR Part 46

Administrative practice and procedure, Authority delegations, Cigars and cigarettes, Claims, Excise taxes, Packaging and containers, Penalties, Reporting and recordkeeping requirements, Seizures and forfeitures, Surety bonds, Tobacco.

27 CFR Part 47

Administrative practice and procedure, Arms control, Arms and munitions, Authority delegation, Chemicals, Customs duties and inspection, Imports, Penalties, Reporting and recordkeeping requirements, Scientific equipment, Seizures and forfeitures.

27 CFR Part 55

Administrative practice and procedure, Authority delegations, Customs duties and inspection, Explosives, Hazardous materials, Imports, Penalties, Reporting and recordkeeping requirements, Safety, Security measures, Seizures and forfeitures, Transportation, Warehouses.

27 CFR Part 178

Administrative practice and procedure, Arms and munitions, Authority delegations, Customs duties and inspection, Domestic violence, Exports, Imports, Law enforcement personnel, Military personnel, Nonimmigrant aliens, Penalties, Reporting requirements, Research, Seizures and forfeitures, Transportation.

27 CFR Part 179

Administrative practice and procedure, Arms and munitions, Authority delegations, Customs duties and inspection, Exports, Imports, Military personnel, Penalties, Reporting requirements, Research, Seizures and forfeitures, Transportation.

27 CFR Part 447

Administrative practice and procedure, Arms control, Arms and munitions, Authority delegation, Chemicals, Customs duties and inspection, Imports, Penalties, Reporting and recordkeeping requirements, Scientific equipment, Seizures and forfeitures.

27 CFR Part 478

Administrative practice and procedure, Arms and munitions, Authority delegations, Customs duties and inspection, Domestic violence, Exports, Imports, Law enforcement personnel, Military personnel, Nonimmigrant aliens, Penalties, Reporting requirements, Research, Seizures and forfeitures, Transportation.

27 CFR Part 479

Administrative practice and procedure, Arms and munitions, Authority delegations, Customs duties and inspection, Exports, Imports, Military personnel, Penalties, Reporting requirements, Research, Seizures and forfeitures, Transportation.

27 CFR Part 555

Administrative practice and procedure, Authority delegations, Customs duties and inspection, Explosives, Hazardous materials, Imports, Penalties, Reporting and recordkeeping requirements, Safety, Security measures, Seizures and forfeitures, Transportation, Warehouses.

27 CFR Part 646

Administrative practice and procedure, Authority delegations, Cigars and cigarettes, Claims, Excise taxes, Packaging and containers, Penalties, Reporting and recordkeeping requirements, Seizures and forfeitures, Surety bonds, Tobacco.

Authority and Issuance

For the reasons discussed in the preamble, the Department of the Treasury and the Department of Justice amend title 27 of the Code of Federal Regulations as follows:

TITLE 27—ALCOHOL, TOBACCO PRODUCTS AND FIREARMS

CHAPTER I—ALCOHOL AND TOBACCO TAX AND TRADE BUREAU, DEPARTMENT OF THE TREASURY

1. Revise the title of 27 CFR chapter I to read as set forth above.

CHAPTER II—BUREAU OF ALCOHOL, TOBACCO, FIREARMS, AND EXPLOSIVES, DEPARTMENT OF JUSTICE

Subchapter A [Reserved]

Subchapter B—Firearms and Ammunition

Subchapter C—Explosives

Subchapter D—Miscellaneous Regulations Relating To Alcohol and Tobacco

2. Amend title 27 CFR by establishing chapter II and its related subchapters to read as set forth above.

Chapter I, Subchapter C

PART 47—[REDESIGNATED AS PART 447]

3. Transfer 27 CFR part 47 from chapter I, subchapter C, to chapter II, subchapter B and redesignate as 27 CFR part 447.

Chapter II, Subchapter B

PART 447—IMPORTATION OF ARMS, AMMUNITION AND IMPLEMENTS OF WAR

4. The authority citation for the newly redesignated 27 CFR part 447 continues to read as follows:

Authority: 22 U.S.C. 2778.

5. Amend the newly redesignated part 447 as follows:

Amendment Table for Part 447
Amend: | By removing the reference to: | And adding in its place:
§ 447.2(a) | § 47.21 | § 447.21
§ 447.2(a) (two times) | Part 178 | Part 478
§ 447.2(a) (two times) | Part 179 | Part 479
§ 447.2(b) | Part 178 or 179 | Part 478 or 479
§ 447.2(b) | Part 178 or 27 CFR Part 179 | Part 478 or 479
§ 447.2(b) | Parts 178 and 179 | Parts 478 and 479
§ 447.2(c) | Part 178 | Part 478
§ 447.11, definition of “Appropriate ATF officer” | Part 47 | Part 447
§ 447.11, definition of “Defense articles” (two times) | § 47.21 or § 47.22 | § 447.21 or § 447.22
§ 447.11, definition of “Import list” | § 47.21 | § 447.21
§ 447.11, definition of “This chapter” (two times) | Chapter I | Chapter II
§ 447.34(a) | Parts 178 and 179 | Parts 478 and 479
§ 447.34(b) | § 178.129 | § 478.129
§ 447.34(b) | Part 178 | Part 478
§ 447.41(a) | Parts 178 or 179 | Parts 478 or 479
§ 447.41(b) | 178.115 | 478.115
§ 447.42(a)(1) (introductory paragraph) | § 47.41 | § 447.41
§ 447.42(b) | § 55.183 of this title | § 555.183 of this chapter
§ 447.52(e) (introductory text) | Part 179 | Part 479
§ 447.52(e) (introductory text) | 178.118 | 478.118
§ 447.56(a) | Parts 178 and 179 | Parts 478 and 479
§ 447.57(a)(1) | Parts 178 or 179 | Parts 478 or 479
§ 447.57(b)(2) | § 178.118 | § 478.118

Chapter I, Subchapter C

PART 55—[REDESIGNATED AS PART 555]

6. Transfer 27 CFR part 55 from chapter I, subchapter C, to chapter II, subchapter C and redesignate as 27 CFR part 555.

Chapter II, Subchapter C

PART 555—COMMERCE IN EXPLOSIVES

7. The authority citation for the newly redesignated 27 CFR part 555 continues to read as follows:

Authority: 18 U.S.C. 847.

8. Amend the newly redesignated part 555 as follows:

Amendment Table for Part 555
Amend: | By removing the reference to: | And adding in its place:
§ 555.2 | Part 178 | Part 478.
§ 555.2 | Part 179 | Part 479.
§ 555.2 | Part 47 | Part 447.
§ 555.11, definition of “Explosive materials” | § 55.23 | § 555.23.
§ 555.26(a)(1) | § 55.105(c) | § 555.105(c).
§ 555.26(d) | § 55.180 | § 555.180.
§ 555.41(b) (introductory text) | § 55.42 | § 555.42.
§ 555.41(b) (introductory text) | § 55.45 | § 555.45
§ 555.41(c) | § 55.43 | § 555.43.
§ 555.41(c) | § 55.45 | § 555.45.
§ 555.45(b) | § 55.41(a) | § 555.41(a).
§ 555.46(a) | § 55.45 | § 555.45.
§ 555.46(b) | § 55.45 | § 555.45.
§ 555.49(b)(6) | § 55.202 | § 555.202.
§ 555.49(c) | § 55.83 or § 55.142 | § 555.83 or § 555.142.
§ 555.49(c) | § 55.142 | § 555.142.
§ 555.52(a) | § 55.202 | § 555.202.
§ 555.52(a) | § 55.41(b) | § 555.41(b).
§ 555.52(b) | § 55.202 | § 555.202.
§ 555.53 | § 55.59 | § 555.59.
§ 555.55 | § 55.202 | § 555.202.
§ 555.57 | § 55.45 | § 555.45.
§ 555.57 | § 55.42(b) or § 55.43(b) | § 555.42(b) or § 555.43(b).
§ 555.58 | § 55.45 | § 555.45.
§ 555.61 | § 55.128 | § 555.128.
§ 555.71 | § 55.74 | § 555.74.
§ 555.72 | § 55.49 | § 555.49.
§ 555.73 | § 55.77 | § 555.77.
§ 555.73 | § 55.82 | § 555.82.
§ 555.74 (two times) | § 55.71 | § 555.71.
§ 555.75 | § 55.77 | § 555.77.
§ 555.76(b) (introductory text) | § 55.79 | § 555.79.
§ 555.76(b)(3) | § 55.45 | § 555.45.
§ 555.76(c) | § 55.81 | § 555.81.
§ 555.77 | § 55.73 or § 55.75 | § 555.73 or § 555.75.
§ 555.78 | §§ 55.73 and 55.75 | §§ 555.73 and 555.75.
§ 555.79 | § 55.73 or § 55.75 | § 555.73 or § 555.75.
§ 555.79 | § 55.75 | § 555.75.
§ 555.79 | § 55.76(b) | § 555.76(b).
§ 555.102(b) | § 55.103 | § 555.103.
§ 555.102(b) | § 55.105(d) | § 555.105(d).
§ 555.103(e) | § 55.51 | § 555.51.
§ 555.104 (introductory text) | § 55.49(a) | § 555.49(a).
§ 555.104 (introductory text) | § 55.103 | § 555.103.
§ 555.105(b) (two times) | § 55.126 | § 555.126.
§ 555.105(f) | § 55.103(a) | § 555.103(a).
§ 555.106(a) | § 55.105(c) | § 555.105(c).
§ 555.106(c)(1) | § 55.142(d) and (e) | § 555.142(d) and (e).
§ 555.106(d) | § 55.105(g) | § 555.105(g).
§ 555.108(a) | § 55.103 | § 555.103.
§ 555.108(c) | Part 47 | Part 447.
§ 555.108(d) | § 55.183 | § 555.183.
§ 555.121(a)(2) | § 55.128 | § 555.128.
§ 555.121(b) | § 55.24 | § 555.24.
§ 555.122(a)(4) | § 55.127 | § 555.127.
§ 555.122(e) | § 55.126 | § 555.126.
§ 555.123(a)(4) | § 55.127 | § 555.127.
§ 555.123(f) | § 55.126 | § 555.126.
§ 555.124(a)(4) | § 55.127 | § 555.127.
§ 555.124(f) | § 55.126 | § 555.126.
§ 555.125(a)(4) | § 55.127 | § 555.127.
§ 555.125(c) | § 55.124(c) | § 555.124(c).
§ 555.125(d) | § 55.126 | § 555.126.
§ 555.126(b) | § 55.105(c) | § 555.105(c).
§ 555.127 | §§ 55.122, 55.123, 55.124, and 55.125 | §§ 555.122, 555.123, 555.124, and 555.125.
§ 555.127 | § 55.30 | § 555.30.
§ 555.128 | § 55.61 | § 555.61.
§ 555.129 | § 55.180 | § 555.180.
§ 555.141(a) (introductory text) | §§ 55.180 and 55.181 | §§ 555.180 and 555.181.
§ 555.165 | § 55.30 | § 555.30.
§ 555.180(d)(4) | § 55.202(a) | § 555.202(a).
§ 555.182 (introductory text) | §§ 55.180 and 55.181 | §§ 555.180 and 555.181.
§ 555.183(a) | § 55.180(b) | § 555.180(b).
§ 555.183(b) | § 55.182 | § 555.182.
§ 555.201(a) | § 55.29 | § 555.29.
§ 555.201(c) | § 55.63 | § 555.63.
§ 555.201(d) | §§ 55.221 through 55.224 | §§ 555.221 through 555.224.
§ 555.201(e) | § 55.202(a) | § 555.202(a).
§ 555.202(a) | § 55.201(e) | § 555.201(e).
§ 555.202(c) | § 55.11 | § 555.11.
§ 555.203 (introductory text) | § 55.202 | § 555.202.
§ 555.203(a) | §§ 55.206 and 55.213 | § 555.206 and 555.213.
§ 555.203(b) | §§ 55.206, 55.208(b), and 55.213 | §§ 555.206, 555.208(b), and 555.213.
§ 555.203(c) | §§ 55.206 and 55.213 | §§ 555.206 and 555.213.
§ 555.203(d) | §§ 55.206(b), 55.210(b), and 55.213 | §§ 555.206(b), 555.210(b), and 555.213.
§ 555.203(d) | §§ 55.206(c), 55.211(b), and 55.213 | §§ 555.206(c), 555.211(b), and 555.213.
§ 555.203(d) | §§ 55.206(a), 55.210(b), and 55.213 | §§ 555.206(a), 555.210(b), and 555.213.
§ 555.203(e) | §§ 55.206(c), 55.211(b), and 55.213 | §§ 555.206(c), 555.211(b), and 555.213.
§ 555.205(d) | § 55.106 | § 555.106.
§ 555.206(a) | § 55.218 | § 555.218.
§ 555.206(b) (two times) | § 55.219 | § 555.219.
§ 555.206(b) | § 55.224 | § 555.224.
§ 555.206(c)(1) | § 55.218 | § 555.218.
§ 555.206(c)(2) | § 55.220 | § 555.220.
§ 555.206(c)(2) | § 55.218 | § 555.218.
§ 555.208(b)(1) | § 55.213 | § 555.213.
§ 555.211(b)(1) | § 55.206 | § 555.206.
§ 555.218, Notes to the Table of Distances for Storage of Explosives (paragraph 1) | § 55.11 | § 555.11.
§ 555.220, Notes of Table of Separation Distances of Ammonium Nitrate and Blasting Agents from Explosives or Blasting Agents (paragraph 2) | § 55.218 | § 555.218.
§ 555.220, Notes of Table of Separation Distances of Ammonium Nitrate and Blasting Agents from Explosives or Blasting Agents (paragraph 3) | § 55.218 | § 555.218.
§ 555.220, Notes of Table of Separation Distances of Ammonium Nitrate and Blasting Agents from Explosives or Blasting Agents (paragraph 6) | § 55.218 | § 555.218.
§ 555.223, table notes (paragraph 3) | § 55.222 | § 555.222.
§ 555.223, table notes (paragraph 3) | §§ 55.218 and 55.224 | §§ 555.218 and 555.224.
§ 555.223, table notes (paragraph 5) | § 55.222 | § 555.222.
§ 555.224, center column in table | § 55.218 | § 555.218.
§ 555.224, table notes (paragraph 4) | § 55.218 | § 555.218.

Chapter I, Subchapter M

PART 178—[REDESIGNATED AS PART 478]

9. Transfer 27 CFR part 178 from chapter I, subchapter M, to chapter II, subchapter B and redesignate as 27 CFR part 478.

Chapter II, Subchapter B

PART 478—COMMERCE IN FIREARMS AND AMMUNITION

10. The authority citation for the newly redesignated 27 CFR part 478 continues to read as follows:

Authority: 5 U.S.C. 552(a); 18 U.S.C. 847, 921-930; 44 U.S.C. 3504(h).

11. Amend the newly redesignated part 478 as follows:

Amendment Table for Part 478
Amend: | By removing the reference to: | And adding in its place:
Editorial Note | Part 178 | This part.
§ 478.2 | Part 179 | Part 479.
§ 478.2 | Part 47 | Part 447.
§ 478.11 (Editorial Note:) | § 178.11 | § 478.11.
§ 478.28(c) | Part 179 | Part 479.
§ 478.29(b) | § 178.96(c) | § 478.96(c).
§ 478.29(c) | §§ 178.30 and 178.97 | §§ 478.30 and 478.97.
§ 478.36(a) | Part 179 | Part 479.
§ 478.36(b) | Part 179 | Part 479.
§ 478.37(c) | § 178.149 | § 478.149.
§ 478.39(b)(2) | § 178.151 | § 478.151.
§ 478.40(b)(9) | § 178.153 | § 478.153.
§ 478.40(c)(5) | § 178.132 | § 478.132.
§ 478.40a(b)(5) | § 178.153 | § 478.153.
§ 478.40a(c)(5) | § 178.132 | § 478.132.
§ 478.41(b) | § 178.42 | § 478.42.
§ 478.41(b) | § 178.44 | § 478.44.
§ 478.41(b) | § 178.47 | § 478.47.
§ 478.41(b) | § 178.50 | § 478.50.
§ 478.41(c) | § 178.42 | § 478.42.
§ 478.41(c) | § 178.44 | § 478.44.
§ 478.41(c) | § 178.47 | § 478.47.
§ 478.41(d) | § 178.93 | § 478.93.
§ 478.45 (two times) | § 178.44 | § 478.44.
§ 478.47(c) | § 178.78, § 178.143, or § 178.144 | § 478.78, § 478.143, or § 478.144.
§ 478.47(c) | § 178.144 | § 478.144.
§ 478.50(c) | § 178.100 | § 478.100.
§ 478.50(d) | § 178.100 | § 478.100.
§ 478.51 | § 178.56 | § 478.56.
§ 478.52(a) | § 178.44 | § 478.44.
§ 478.52(b) | § 178.71 | § 478.71.
§ 478.54 | § 178.44 | § 478.44.
§ 478.55 | § 178.44 | § 478.44.
§ 478.57(a) | § 178.127 | § 478.127.
§ 478.57(b) | § 178.40(b) | § 478.40(b).
§ 478.57(b) | §§ 178.40(c) and 178.132 | §§ 478.40(c) and 478.132.
§ 478.57(c) | § 178.40a(b) | § 478.40a(b).
§ 478.57(c) | §§ 178.40a(c) and 178.132 | §§ 478.40a(c) and 478.132.
§ 478.71 | § 178.47 | § 478.47.
§ 478.72 | § 178.47 | § 478.47.
§ 478.73(b) | § 178.74 | § 478.74.
§ 478.92(a)(4)(iii) | § 178.11 | § 478.11.
§ 478.93 | § 178.50 | § 478.50.
§ 478.93 | § 178.99(c) | § 478.99(c).
§ 478.93 | § 178.125(a) | § 478.125(a).
§ 478.95 | § 178.94 | § 478.94.
§ 478.96(b) | § 178.102(a) | § 478.102(a).
§ 478.96(b) | § 178.124 | § 478.124.
§ 478.96(c)(1)(ii) | § 178.102 | § 478.102.
§ 478.96(c)(1)(iii) | § 178.124 | § 478.124.
§ 478.97(a) | § 178.99(b) or § 178.99(c) | § 478.99(b) or § 478.99(c).
§ 478.97(a) | § 178.102 | § 478.102.
§ 478.98(b) (two times) | Part 179 | Part 479.
§ 478.99(a) | § 178.96(c) | § 478.96(c).
§ 478.99(a) | § 178.97 | § 478.97.
§ 478.99(c)(1) | § 178.143 | § 478.143.
§ 478.99(c)(1) | § 178.144 | § 478.144.
§ 478.99(c)(5) | § 178.32(f) | § 478.32(f).
§ 478.99(d)(3) | § 178.149 | § 478.149.
§ 478.99(e) | § 178.125(c) | § 478.125(c).
§ 478.100(a)(1) | § 178.91 | § 478.91.
§ 478.102(a)(3) | § 178.124(c) | § 478.124(c).
§ 478.102(b) | § 178.129 | § 478.129.
§ 478.102(d)(2) | Part 179 | Part 479.
§ 478.102(d)(3) | § 178.150 | § 478.150.
§ 478.102(e) | § 178.131 | § 478.131.
§ 478.112(a) | § 178.11 | § 478.11.
§ 478.112(d)(2) | § 178.92 | § 478.92.
§ 478.113(a) | § 178.11 | § 478.11.
§ 478.116 | § 178.119(b) | § 478.119(b).
§ 478.118 | Part 47 | Part 447.
§ 478.118 | Part 179 | Part 479.
§ 478.119(c)(7) | § 178.40a(b) | § 478.40a(b).
§ 478.119(f)(2) | § 178.92 | § 478.92.
§ 478.119(g) | § 178.116 | § 478.116.
§ 478.121(a) | § 178.129 | § 478.129.
§ 478.121(a) | § 178.125 | § 478.125.
§ 478.121(b) (two times) | § 178.23 | § 478.23.
§ 478.121(d) | § 178.100(c) | § 478.100(c).
§ 478.122(b) | § 178.149 | § 478.149.
§ 478.122(d) | §§ 178.124 and 178.125 | §§ 478.124 and 478.125.
§ 478.123(b) | § 178.149 | § 478.149.
§ 478.123(b) | § 178.122 | § 478.122.
§ 478.123(d) | §§ 178.124 and 178.125 | §§ 478.124 and 478.125.
§ 478.124(c)(3)(i) | § 178.11 | § 478.11.
§ 478.124(c)(3)(ii) | § 178.11 | § 478.11.
§ 478.124(c)(3)(iv) | § 178.102 | § 478.102.
§ 478.124(d) | § 178.96(c) | § 478.96(c).
§ 478.124(f) | § 178.102(a) | § 478.102(a).
§ 478.124a(a) (two times) | § 178.125 | § 478.125.
§ 478.124a(e) (introductory text) | § 178.124(c) | § 478.124(c).
§ 478.124a(e)(2) | § 178.96(c) | § 478.96(c).
§ 478.124a(f) | § 178.124(f) | § 478.124(f).
§ 478.125(b) | § 178.122(b) | § 478.122(b).
§ 478.125(c) (two times) | § 178.99(e) | § 478.99(e).
§ 478.125(c) | § 178.122(b) | § 478.122(b).
§ 478.125(e) | § 178.124a | § 478.124a.
§ 478.125(f)(2)(i) | § 178.11 | § 478.11.
§ 478.125(f)(2)(ii) | § 178.11 | § 478.11.
§ 478.125a(a) (introductory text) | § 178.102 | § 478.102.
§ 478.125a(a)(2) | § 178.125(e) | § 478.125(e).
§ 478.125a(a)(3) | § 178.125(e) | § 478.125(e).
§ 478.129(b) | § 178.124(b) | § 478.124(b).
§ 478.129(c) | § 178.150(c) | § 478.150(c).
§ 478.129(f) | §§ 178.40(c) and 178.132 | §§ 478.40(c) and 478.132.
§ 478.131(a)(1) | § 178.102(d) | § 478.102(d).
§ 478.131(a)(1) | § 178.102(a) | § 478.102(a).
§ 478.131(a)(2) | § 178.102(d)(1) | § 478.102(d)(1).
§ 478.131(a)(3) | §§ 178.102(d)(3) and 178.150 | §§ 478.102(d)(3) and 478.150.
§ 478.131(a)(3) | § 178.129(c) | § 478.129(c).
§ 478.132(b)(2) | § 178.40(b)(7) and 178.40(b)(3) | §§ 478.40(b)(7) and 478.40(b)(3).
§ 478.133 | § 178.40(c) | § 478.40(c).
§ 478.141 (introductory and text) | §§ 178.32(a)(9) and (d)(9) and 178.99(c)(9) | §§ 478.32(a)(9) and (d)(9) 478.99(c)(9).
§ 478.144(a) | § 178.32 | § 478.32.
§ 478.144(i)(1) | § 178.32(a) | § 478.32(a).
§ 478.145 | § 178.98 | § 478.98.
§ 478.147 | § 178.124(a) | § 478.124(a).
§ 478.149 | §§ 178.37and 178.99(d) | §§ 478.37 and 478.99(d).
§ 478.150(a) (introductory text) | § 178.102(d)(3) | § 478.102(d)(3).
§ 478.150(a) (introductory text) | § 178.102(a)(1) | § 478.102(a)(1).
§ 478.150(c) | § 178.129(c) | § 478.129(c).
§ 478.151(a) | § 178.39 | § 478.39.
§ 478.153 | § 178.40 | § 478.40.
§ 478.153 | § 178.40a | § 478.40a.

Chapter I, Subchapter M

PART 179—[REDESIGNATED AS PART 479]

12. Transfer 27 CFR part 179 from chapter I, subchapter M to chapter II, subchapter B and redesignate as 27 CFR part 479.

Chapter II, Subchapter B

PART 479—MACHINE GUNS, DESTRUCTIVE DEVICES, AND CERTAIN OTHER FIREARMS

13. The authority citation for the newly redesignated 27 CFR part 479 continues to read as follows:

Authority: 26 U.S.C. 7805.

14. Amend the newly redesignated part 479 as follows:

Amendment Table for Part 479
Amend: | By removing the reference to: | And adding in its place:
§ 479.25 | § 179.24 | § 479.24.
§ 479.31(a) | § 179.32 | § 479.32.
§ 479.31(b) | §§ 179.38-179.39 | §§ 479.38-479.39.
§ 479.32(b) | § 179.32a | § 479.32a.
§ 479.32a(a) | § 179.32 | § 479.32.
§ 479.34(b)(3) | § 179.35 | § 479.35.
§ 479.34(b)(6) | Part 178 | Part 478.
§ 479.34(e) | § 178.44(a) | § 478.44(a).
§ 479.38 | § 179.46 | § 479.46.
§ 479.42 | § 179.49 | § 479.49.
§ 479.43 | § 179.42 | § 479.42.
§ 479.44 | § 179.42 | § 479.42.
§ 479.44 | § 179.34 | § 479.34.
§ 479.46 | § 179.34 | § 479.34.
§ 479.48 | § 179.34 | § 479.34.
§ 479.49 | § 179.46 | § 479.46.
§ 479.49 | § 179.50 | § 479.50.
§ 479.50 | § 179.51 | § 479.51.
§ 479.52 | § 179.23 | § 479.23.
§ 479.62 | § 179.63 | § 479.63.
§ 479.62 | § 179.67 | § 479.67.
§ 479.69 | § 179.62 | § 479.62.
§ 479.70 | § 179.62 | § 479.62.
§ 479.84 | § 179.85 | § 479.85.
§ 479.87 | § 179.67 | § 479.67.
§ 479.89 | § 179.90 | § 479.90.
§ 479.90(b) | § 179.85 | § 479.85.
§ 479.91 | § 179.90 | § 479.90.
§ 479.92 | § 178.28 | § 478.28.
§ 479.93 | § 178.98 | § 478.98.
§ 479.111(a)(3) | Part 178 | Part 478
§ 479.111(b) | Part 178 | Part 478.
§ 479.111(c) | Part 178 | Part 478.
§ 479.112(a) | § 178.112 | § 478.112.
§ 479.118 | § 179.117 | § 479.117.
§ 479.119 | § 178.28 | § 478.28.
§ 479.120 | § 179.118 | § 479.118.
§ 479.120 | § 179.172 | § 479.172.
§ 479.121 | §§ 179.114 and 179.115 | §§ 479.114 and 479.115.
§ 479.122(a) | Part 47 | Part 447.
§ 479.131 | Part 178 | Part 478.
§ 479.192 | Part 178 | Part 478.
§ 479.193 | Part 47 | Part 447.

Chapter I, Subchapter B

PART 46—[AMENDED]

15. Transfer 27 CFR part 46, subpart F (§§ 46.141-46.155), from chapter I, subchapter B, to 27 CFR, chapter II, subchapter D and redesignate as “Part 646—Contraband Cigarettes”.

Chapter II, Subchapter D

PART 646—CONTRABAND CIGARETTES

16. Add an authority citation for the newly redesignated 27 CFR part 646 to read as follows:

Authority: 18 U.S.C. 2341-2346, unless otherwise noted.

17. Amend the newly redesignated part 646 as follows:

Amendment Table for Part 646
Amend: | By removing the reference to: | And adding in its place:
§ 646.141 (section heading) | Subpart | Part.
§ 646.142 | Subpart | Part.
§ 646.143 (introductory text) | Subpart | Part.
§ 646.146 | Subpart | Part.
§ 646.146 | § 46.147 | § 646.147.
§ 646.147(a) (introductory text) | § 46.143 | § 646.143.
§ 646.147(b) | § 46.143 | § 646.143.
§ 646.150(a) | §§ 46.146 and 46.147 | §§ 646.146 and 646.147.
§ 646.153 (introductory text) | §§ 46.146 through 46.147 | §§ 646.146 through 646.147
§ 646.154(b) | Subpart | Part.

Dated: January 14, 2003.
Bradley A. Buckles,
Director, Bureau of Alcohol, Tobacco and Firearms.
Dated: January 15, 2003.
Timothy E. Skud,
Deputy Assistant Secretary, (Regulatory, Tariff and Trade Enforcement).
Dated: January 21, 2003.
Joan L. Larsen,
Deputy Assistant Attorney General.

[FR Doc. 03-1657 Filed 1-23-03; 8:45 am]

BILLING CODE 4810-31-P; 4410-19-P